DEPARTMENT OF COMMERCE

International Trade Administration

[A-559-808, A-469-819]

Acetone From Singapore and Spain: Antidumping Duty Orders

AGENCY: Enforcement and Compliance, International Trade Administration, Department of Commerce.

SUMMARY: Based on affirmative final determinations by the Department of Commerce (Commerce) and the International Trade Commission (ITC), Commerce is issuing antidumping duty orders on acetone from Singapore and Spain.

DATES: Applicable December 20, 2019.

FOR FURTHER INFORMATION CONTACT: Joshua DeMoss at (202) 482-3362 (Singapore) or Preston Cox at (202) 482-5041 (Spain), AD/CVD Operations, Office VI, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on October 21, 2019, Commerce published its affirmative final determinations in the less-than-fair-value (LTFV) investigations of acetone from Singapore and Spain.¹ On December 5, 2019, the ITC notified Commerce of its final affirmative determinations that an industry in the United States is materially injured within the meaning of section 735(b)(1)(A)(i) of the Act, by reason of the LTFV imports of acetone from Singapore and Spain.² The ITC published its final determinations on December 10, 2019.³

¹ See Acetone from Singapore: Final Determination of Sales at Less Than Fair Value, 84 FR 56171 (October 21, 2019); see also Acetone from Spain: Final Determination of Sales at Less Than Fair Value, and Final Determination of No Shipments, 84 FR 56166 (October 21, 2019) (collectively, Final Determinations).

² See ITC's Letter dated December 5, 2019 (ITC Notification Letter).

³ See Acetone from Singapore and Spain; Determinations, 84 FR 67476 (December 10, 2019).

Scope of the Orders

The merchandise covered by these orders is acetone from Singapore and Spain. For a complete description of the scope of the orders, see the Appendix to this notice.

Antidumping Duty Orders

On December 5, 2019, in accordance with sections 735(b)(1)(A)(i) and 735(d) of the Act, the ITC notified Commerce of its final determinations that an industry in the United States is materially injured by reason of imports of acetone from Singapore and Spain.⁴ Therefore, in accordance with sections 735(c)(2) and 736 of the Act, Commerce is issuing these antidumping duty orders. Because the ITC determined that imports of acetone from Singapore and Spain are materially injuring a U.S. industry, unliquidated entries of such merchandise from Singapore and Spain, which are entered or withdrawn from warehouse for consumption, are subject to the assessment of antidumping duties.

⁴ See ITC Notification Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of acetone from Singapore and Spain. Antidumping duties will be assessed on unliquidated entries of acetone from Singapore and Spain entered, or withdrawn from warehouse, for consumption on or after August 31, 2018, the date of publication of the Preliminary Determinations,⁵ but will not include entries occurring after the expiration of the provisional measures period and before publication in the Federal Register of the ITC's injury determination, as further described below.

⁵ See Acetone from Singapore: Preliminary Affirmative Determination of Sales at Less Than Fair Value, 84 FR 38005 (August 5, 2019); Acetone from Spain: Preliminary Affirmative Determination of Sales at Less Than Fair Value, and Preliminary Determination of No Shipments, 84 FR 37990 (August 5, 2019) (collectively, Preliminary Determinations).

Suspension of Liquidation

In accordance with section 736 of the Act, Commerce will instruct CBP to reinstitute the suspension of liquidation of subject merchandise (i.e., acetone from Singapore and Spain), effective on the date of publication of the ITC final determinations in the Federal Register, and to assess, upon further instruction by Commerce pursuant to section 736(a)(1) of the Act, antidumping duties for each entry of the subject merchandise equal to the amount by which the normal value of the merchandise exceeds the export price or constructed export price of the merchandise, adjusted by the amount of export subsidies, where appropriate. We intend to instruct CBP to require, at the same time as importers would normally deposit estimated import duties on this merchandise, cash deposits for each entry of subject merchandise equal to the estimated weighted-average dumping margins listed below. These instructions suspending liquidation will remain in effect until further notice. The all-others rates apply to all other producers or exporters not specifically listed.

Estimated Weighted-Average Dumping Margins

The estimated weighted-average dumping margins for each antidumping duty order are as follows:

Exporter/producer | Weighted- average dumping margin (percent)
Singapore
Mitsui Phenols Singapore Pte. Ltd | 131.75
All Others | 66.42
Spain
CEPSA Quimica, S.A | 171.81
All Others | 137.39

Provisional Measures

Section 733(d) of the Act states that suspension of liquidation pursuant to an affirmative preliminary determination may not remain in effect for more than four months, except that Commerce may extend the four-month period to no more than six months at the request of exporters representing a significant proportion of exports of the subject merchandise. Commerce's Preliminary Determinations were published on August 5, 2019.⁶ Commerce's Final Determinations were not extended and were published on October 21, 2019.⁷ As such, the four-month period beginning on the date of publication of the Preliminary Determinations ended on December 3, 2019.

⁶ See Preliminary Determinations.

⁷ See Final Determinations.

Therefore, in accordance with section 733(d) of the Act, Commerce instructed CBP to terminate the suspension of liquidation, and to liquidate, without regard to antidumping duties, unliquidated entries of acetone from Singapore and Spain entered or withdrawn from warehouse for consumption after December 3, 2019, the date on which the provisional measures expired, through the day preceding the date of publication of the ITC's final affirmative injury determinations in the Federal Register. Suspension of liquidation will resume on the date of publication of the ITC's final affirmative injury determinations in the Federal Register.

Notification to Interested Parties

This notice constitutes the antidumping duty orders with respect to acetone from Singapore and Spain pursuant to section 736(a) of the Act. Interested parties can find a list of antidumping duty orders currently in effect at http://enforcement.trade.gov/stats/iastats1.html.

These orders are published in accordance with section 736(a) of the Act and 19 CFR 351.211(b).

Dated: December 16, 2019.
Jeffrey I. Kessler,
Assistant Secretary for Enforcement and Compliance.

Appendix—Scope of the Orders

The merchandise covered by these orders is all grades of liquid or aqueous acetone. Acetone is also known under the International Union of Pure and Applied Chemistry (IUPAC) name propan-2-one. In addition to the IUPAC name, acetone is also referred to as ß-ketopropane (or beta-ketopropane), ketone propane, methyl ketone, dimethyl ketone, DMK, dimethyl carbonyl, propanone, 2-propanone, dimethyl formaldehyde, pyroacetic acid, pyroacetic ether, and pyroacetic spirit. Acetone is an isomer of the chemical formula C3H6O, with a specific molecular formula of CH3COCH3 or (CH3)2CO.

The scope covers both pure acetone (with or without impurities) and acetone that is combined or mixed with other products, including, but not limited to, isopropyl alcohol, benzene, diethyl ether, methanol, chloroform, and ethanol. Acetone that has been combined with other products is included within the scope, regardless of whether the combining occurs in third countries.

The scope also includes acetone that is commingled with acetone from sources not subject to this investigation.

For combined and commingled products, only the acetone component is covered by the scope of this investigation. However, when acetone is combined with acetone components from sources not subject to this investigation, those third country acetone components may still be subject to other acetone investigations.

Notwithstanding the foregoing language, an acetone combination or mixture that is transformed through a chemical reaction into another product, such that, for example, the acetone can no longer be separated from the other products through a distillation process (e.g., methyl methacrylate (MMA) or Bisphenol A (BPA)), is excluded from this investigation.

A combination or mixture is excluded from these investigations if the total acetone component (regardless of the source or sources) comprises less than 5 percent of the combination or mixture, on a dry weight basis.

The Chemical Abstracts Service (CAS) registry number for acetone is 67-64-1.

The merchandise covered by this investigation is currently classifiable under Harmonized Tariff Schedule of the United States (HTSUS) subheadings 2914.11.1000 and 2914.11.5000. Combinations or mixtures of acetone may enter under subheadings in Chapter 38 of the HTSUS, including, but not limited to, those under heading 3814.00.1000, 3814.00.2000, 3814.00.5010, and 3814.00.5090. The list of items found under these HTSUS subheadings is non-exhaustive. Although these HTSUS subheadings and CAS registry number are provided for convenience and customs purposes, the written description of the scope of this investigation is dispositive.

[FR Doc. 2019-27533 Filed 12-19-19; 8:45 am]

BILLING CODE 3510-DS-P